DEPARTMENT OF ENERGY

Federal Energy Regulatory Commission

[Docket No. RP00-487-001]

Tuscarora Gas Transmission Company; Notice of Compliance Filing

May 28, 2002.

Take notice that on May 1, 2002, Tuscarora Gas Transmission Company (Tuscarora) tendered for filing as part of its FERC Gas Tariff, Original Volume No. 1, the following revised tariff sheet, to become effective on July 1, 2002:

Second Revised Sheet No. 77

Tuscarora states that the purpose of this filing is to comply with Order No. 587-N, issued on March 11, 2002 in Docket No. RM96-1-019. In accordance with Order No. 587-N, Tuscarora is making this tariff filing to provide its shippers with the ability to recall scheduled and unscheduled capacity at the Timely and Evening Nomination cycles and to recall unscheduled capacity at the Intra-Day 1 and Intra-Day 2 Nomination times. In addition, in compliance with Order No. 587-N, Tuscarora is removing NAESB Standard 5.3.7 and the first sentence of NAESB Standard 5.3.7 from its tariff.

Tuscarora states that copies of its filing have been mailed to all affected customers and interested state commissions.

Any person desiring to protest said filing should file a protest with the Federal Energy Regulatory Commission, 888 First Street, NE., Washington, DC 20426, in accordance with Section 385.211 of the Commission's Rules and Regulations. All such protests must be filed on or before May 31, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-13794 Filed 5-31-02; 8:45 am]

BILLING CODE 6717-01-P